DEPARTMENT OF HEALTH AND HUMAN SERVICES

Indian Health Service

Request for Public Comment: 60 Day Information Collection: Indian Self-Determination and Education Assistance Act Contracts

AGENCY: Indian Health Service, HHS.

ACTION: Notice and request for comments. Request for extension of approval.

SUMMARY: In compliance with the Paperwork Reduction Act of 1995, the Indian Health Service (IHS) invites the general public to comment on the information collection titled, “Indian Self-Determination and Education Assistance Act Contracts,” Office of Management and Budget (OMB) Control Number 0917-0037. IHS is requesting OMB to approve an extension for this collection, which expires on February 29, 2020.

DATES: Comment Due Date: February 24, 2020. Your comments regarding this information collection are best assured of having full effect if received within 60 days of the date of this publication.

ADDRESSES: Send your written comments, requests for more information on the collection, or requests to obtain a copy of the data collection instrument and instructions to Captain Kelly Battese by one of the following methods:

• Mail: Captain Kelly Battese, Acting Director, IHS Office of Direct Service and Contracting Tribes (ODSCT), Indian Health Service, 5600 Fishers Lane, Mail Stop O8E17C, Rockville, MD 20857.

• Phone: 301-443-1104.

• Email: Kelly.Battese@ihs.gov.

• Fax: 301-480-3192.

SUPPLEMENTARY INFORMATION: This previously approved information collection project was last published in the Federal Register (81 FR 24108). No public comment was received in response to the notice. The purpose of this notice is to allow 60 days for public comment. A copy of the supporting statement is available at www.regulations.gov (see Docket ID IHS-2016-0003).

I. Abstract

Representatives of the IHS seek renewal of the approval for information collections conducted under 25 CFR part 900, implementing the Indian Self-Determination and Education Assistance Act (ISDEAA), as amended (25 U.S.C. 5301 et seq.), which describes how contracts are awarded to Indian Tribes and Tribal organizations. The rule at 25 CFR part 900 was developed through negotiated rulemaking with Tribes in 1996 and governs, among other things, what must be included in a Tribe's initial ISDEAA contract proposal to IHS. In at least some instances, the information collected under 25 CFR part 900 is required to obtain and/or retain a benefit.

The information requirements for this rule represent significant differences from other agencies in several respects. Under the Act, the Secretary of Health and Human Services is directed to enter into self-determination contracts with Tribes or eligible Tribal Organizations upon request, unless specific declination criteria apply, and, generally, contractors may renew these contracts annually, whereas other agencies provide grants on a discretionary or competitive basis. Additionally, IHS awards contracts for multiple programs whereas other agencies usually award single grants to Tribes.

The IHS uses the information collected to determine applicant eligibility, evaluate applicant capabilities, protect the service population, safeguard Federal funds and other resources, and permit the Federal agency to administer and evaluate contract programs. Tribal Governments or Tribal Organizations provide the information by submitting contract proposals, and related information, to the IHS, as required under Public Law 93-638. No third party notification or public disclosure burden is associated with this collection.

II. Request for Comments

The IHS requests your comments on this collection concerning: (a) The necessity of this information collection for the proper performance of the functions of the agency, including whether the information will have practical utility; (b) the accuracy of the agency's estimate of the burden (hours and cost) of the collection of information, including the validity of the methodology and assumptions used; (c) ways we could enhance the quality, utility, and clarity of the information to be collected; and (d) ways we could minimize the burden of the collection of the information on the respondents.

Please note that an agency may not conduct or sponsor, and an individual need not respond to, a collection of information unless it displays a valid OMB Control Number.

It is our policy to make all comments available to the public for review at the location listed in the ADDRESSES section. Before including your address, phone number, email address or other personally identifiable information in your comment, you should be aware that your entire comment—including your personal identifying information—may be made publicly available at any time. While you can ask us in your comment to withhold your personal identifying information from public review, we cannot guarantee that we will be able to do so.

III. Data

OMB Control Number: 0917-0037.

Title: Indian Self-Determination and Education Assistance Act Contracts, 25 CFR part 900.

Brief Description of Collection: An Indian Tribe or Tribal Organization is required to submit certain information when it proposes to contract with the IHS under the ISDEAA. Each response may vary in its length. In addition, each Subpart of 25 CFR part 900 concerns different parts of the contracting process. For example, Subpart C relates to provisions of the contents for the initial contract proposal. The respondents do not incur the burden associated with Subpart C when contracts are renewed. Subpart F describes minimum standards for management systems used by Indian Tribes or Tribal Organizations under these contracts. Subpart G addresses the negotiability of all reporting and data requirements in the contracts. Responses are required to obtain or retain a benefit.

Type of Review: Extension of currently approved collection.

Respondents: Federally recognized Indian Tribes and Tribal Organizations.

Number of Respondents: 275 Title I contractors.

Estimated Number of Responses: On average, IHS receives 10 proposals for new or expanded Title I agreements each fiscal year, plus there are 265 existing Title I contracts and associated annual funding agreements, which must be negotiated each year = 275 responses.

Estimated Time per Response: Average of 70 hours for the new/expanded; average of 35 hours for the existing.

Frequency of Response: Each time programs, functions, services or activities are contracted from the IHS under the ISDEAA.

Estimated Total Annual Hour Burden: 700 [70 × 10] for new/expanded + 9,275 [35 × 265] for existing = 9,975.

Chris Buchanan,
Assistant Surgeon General, USPHS, Deputy Director, Indian Health Service.

[FR Doc. 2019-27819 Filed 12-23-19; 8:45 am]

BILLING CODE 4165-16-P